DEPARTMENT OF STATE

[Public Notice 11860]

Certification Pursuant to Section 7041(A)(1) of the Department of State, Foreign Operations, and Related Programs Appropriations Act, 2021

By the virtue of the authority vested in me as Secretary of State pursuant to Section 7041(a)(1) of the Department of State, Foreign Operations, and Related Programs Appropriations Act, 2022 (Div. K, Pub. L. 117-103), I hereby certify that the Government of Egypt is sustaining the strategic relationship with the United States and meeting its obligations under the 1979 Egypt-Israel Peace Treaty.

This determination shall be published in the Federal Register and, along with the accompanying memorandum of justification, shall be reported to Congress.

Dated: July 28, 2022.
Antony J. Blinken,
Secretary of State.

[FR Doc. 2022-19690 Filed 9-12-22; 8:45 am]

BILLING CODE 4710-31-P